DEPARTMENT OF HEALTH AND HUMAN SERVICES

Health Resources and Services Administration

Part C Early Intervention Services Grant

AGENCY: Health Resources and Services Administration (HRSA), HHS.

ACTION: Notice of non-competitive transfer of Part C funds from North General Hospital to the Institute for Family Health.

SUMMARY: HRSA will be transferring Ryan White HIV/AIDS Program, Part C funds as a Non-Competitive Replacement Award, to the Institute for Family Health in order to ensure continuity of critical HIV medical care and treatment services and avoid a disruption of HIV/AIDS clinical care to clients in East and Central Harlem, in New York City.

SUPPLEMENTARY INFORMATION: Grantee of Record: North General Hospital.

Intended Recipient of the Award: The Institute for Family Health.

Amount of the Award: The Institute for Family Health will receive $577,174 of fiscal year (FY) 2010 funds to ensure ongoing clinical HIV/AIDS services for 12 months.

Authority: Section 2651 of the Public Health Service Act, 42 U.S.C. 300ff-51.

CFDA Number: 93.918.

Project Period: July 1, 2010, to June 30, 2011. The period of support for the Non-Competitive Replacement Award is from July 2, 2010, to June 30, 2011.

This service area will be included in the upcoming competition for the Part C HIV Early Intervention Services (EIS) competing application process for project periods starting July 1, 2011.

Justification for the Exception to Competition: Critical funding for HIV/AIDS medical care and treatment services to clients in East and Central Harlem of New York City will be continued through a Non-Competitive Replacement Award to the Institute for Family Health, as it has the fiscal and administrative infrastructure to administer the Part C Grant. This is a temporary Replacement Award as the previous grant recipient, North General Hospital, serving this population, notified HRSA that it could not continue providing services after July 2, 2010. North General Hospital identified the Institute for Family Health as the best qualified entity for this grant, since it operates 24 Federally Qualified Health Centers throughout New York and was granted a certificate of need on July 1, 2010, to cover ambulatory care services that were previously managed by North General Hospital at the same location. The Institute for Family Health can provide critical services with the least amount of disruption to the service population while the service area is re-competed.

FOR FURTHER INFORMATION CONTACT: Anna Huang, via e-mail ahuang1@hrsa.gov, or via telephone, 301-443-3995.

Dated: October 28, 2010.
Mary K. Wakefield,
Administrator.

[FR Doc. 2010-28090 Filed 11-5-10; 8:45 am]

BILLING CODE 4165-15-P